DEPARTMENT OF HEALTH AND HUMAN SERVICES

National Institutes of Health

Notice of Available Space for Vendors at the 2009 NIH Glycoscience Research Day

The purpose of this notice is to inform the public of the availability of limited vendor space at the 2009 NIH Glycoscience Research Day. This meeting is organized by the NIH Glycobiology Special Interest Group.

The meeting will be held on May 28, 2009, at the National Institutes of Health, Building 45 (Natcher Conference Center), on the Auditorium Balcony B and C and the Natcher Fourier, from 8:25 a.m. to 5 p.m. The doors will open at 7 a.m.

The purpose of this meeting is for presentation and discussion of scientific work performed by scientists at the National Institutes of Health and surrounding universities in the area of the glycosciences. The meeting agenda is available Online at http://meetings.nigms.nih.gov/index.cfm?event=home&ID=6185.

The meeting will be open to the public, including vendors, with attendance limited to the space available. Individuals who plan to attend and need special assistance, such as sign language or other reasonable accommodations, should notify Mary Conway, Conference Coordinator, Natcher Conference Center, at 301-594-7007.

In the interest of security, NIH has instituted security procedures for entrance onto the NIH campus. All visitor vehicles, including taxicabs, and hotel and airport shuttles will be inspected prior to entry onto campus. Visitors will be required to present one form of identification and to state the purpose of their visit. Acceptable forms of identification include a government-issued photo ID, driver's license or passport.

For additional information concerning this meeting, please contact Dr. John F. Cipollo, Chair of the 2009 NIH Glycoscience Research Day, Principal Investigator, Food and Drug Administration Center for Biologics Evaluation and Research Division of Bacterial, Parasitic and Allergenic Products, Building 29, Room 126, 8800 Rockville Pike, Bethesda MD 20892-0001, telephone 301-827-0162 (office).

Dated: May 11, 2009.
Raynard S. Kington,
Acting Director, National Institutes of Health.

[FR Doc. E9-11574 Filed 5-18-09; 8:45 am]

BILLING CODE 4140-01-P